DEPARTMENT OF COMMERCE

National Oceanic and Atmospheric Administration

Agency Information Collection Activities; Submission to the Office of Management and Budget for Review and Approval; Comment Request; 3D Nation Elevation Data Requirements and Benefits Study

The Department of Commerce will submit the following Information Collection Request (ICR) to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on March 5, 2024, during a 60-day comment period. No comments were received. This notice allows for an additional 30 days for public comments.

Agency: National Oceanic & Atmospheric Administration (NOAA), Commerce.

Title: 3D Nation Requirements and Benefits Elevation Data Study.

OMB Control Number: 0648-0762.

Form Number(s): None.

Type of Request: Regular submission; extension of a current information collection.

Number of Respondents: 600.

Average Hours per Response: 2.

Total Annual Burden Hours: 1,200.

Needs and Uses: This is a request for extension of a currently approved information collection.

NOAA and the U.S. Geological Survey (USGS) are working to improve the technology systems, data, and services that provide information about 3D elevation data and related applications within the United States. By continuing to learn about business uses and associated benefits that would be realized from improved elevation data, the agencies can more effectively prioritize and direct investments that will best serve user needs. The 3D Nation Elevation Data Requirements and Benefits Study (“3D Nation Study”) is part of the continuing effort to develop and refine future program alternatives that would provide enhanced 3D data to meet many Federal, State, and other national business needs. The 3D Nation Study seeks to understand needs for 3D elevation data in terms of mission-critical activities, geographic extents of data needs, accuracy requirements, frequency needed, and anticipated benefits of having the required data.

In 2022, NOAA and the USGS completed the first 3D Nation Study assessing requirements and benefits of topographic (terrestrial elevation) and bathymetric (water depth) data in inland, nearshore, and offshore geographies. The 3D Nation Study consisted of a standardized questionnaire covering a wide range of business uses that depend on elevation data to inform policy, regulation, scientific research, and management decisions. Input was gathered from a variety of government entities (e.g., Federal, State, local, Tribal) as well as not-for-profit, academic, and private/commercial users of elevation data. Collected responses were aggregated at the agency, organization, State and national levels. Responses associated with individuals were not distributed. Responses were one-time and voluntary. In-person interviews to clarify questionnaire results were arranged on a case-by-case basis.

NOAA and USGS are now analyzing respondent data from the first 3D Nation Study. The report and appendices of questionnaire and other report-related sections are available at the 3D Nation Study site (https://3dnation.iocm.noaa.gov/) and via NOAA's Integrated Ocean and Coastal Mapping Program page (https://iocm.noaa.gov/planning/3DNationStudy.html). The findings are being used to update a baseline of national business needs and associated benefits for 3D data and associated technologies. This baseline enhances the responsiveness of NOAA, USGS, and partner agency programs to stakeholder needs. It is intended to inform the design of directed future programs that balance requirements, benefits, and costs at a national scale.

NOAA and USGS plan to revisit national elevation data needs to assess changes to the 3D Nation Study baseline in or after 2026, which is why NOAA and USGS are seeking to extend the expiration date of this currently approved ICR. The survey tool for the future 3D Nation Study collection will likely include a subset of questions from the original questionnaire because the 2022 3D Nation Study provides a sufficient foundation to minimize questions in a number of study areas. Prior to conducting the next round of surveys, NOAA will submit a request for questionnaire revision to OMB based on analysis of the baseline survey.

Affected Public: Federal government, State, local or Tribal governments; not-for-profit institutions, academia, business or other for-profit organizations.

Frequency: On occasion, 3-5-year intervals.

Respondent's Obligation: Voluntary.

Legal Authority: Coast and Geodetic Survey Act of 1947 (33 U.S.C. 883a et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0762.

Sheleen Dumas,
Department PRA Clearance Officer, Office of the Under Secretary for Economic Affairs, Commerce Department.

[FR Doc. 2024-12877 Filed 6-11-24; 8:45 am]

BILLING CODE 3510-08-P